DEPARTMENT OF THE INTERIOR

Bureau of Land Management

[21X.LLAK930000 L16100000.PN0000]

Notice of Availability of the Proposed Resource Management Plan and Final Environmental Impact Statement for the Bering Sea-Western Interior Planning Area, Alaska

AGENCY: Bureau of Land Management, Interior

ACTION: Notice of availability.

SUMMARY: In accordance with the National Environmental Policy Act of 1969, as amended, and the Federal Land Policy and Management Act of 1976, as amended, the Bureau of Land Management (BLM), Anchorage Field Office, Anchorage, Alaska, prepared a Proposed Resource Management Plan (RMP)/Final Environmental Impact Statement (EIS) for the Bering Sea-Western Interior region of Alaska and by this notice is announcing its availability.

DATES: BLM planning regulations state that any person who meets the conditions as described in the regulations at 43 CFR 1610.5-2 may protest the BLM's Proposed RMP/Final EIS. A person who meets the conditions must file or postmark their protest no later than 30 days from the date of the Final EIS Notice of Availability published by the Environmental Protection Agency.

ADDRESSES: Copies or notification of the electronic availability of the RMP for the Bering Sea-Western Interior Proposed RMP/Final EIS are being sent to affected federal, State, tribal, and local government agencies and to other stakeholders. The electronic Proposed RMP/Final EIS is available on the BLM's National Environmental Policy Act (NEPA) Register (https://eplanning.blm.gov/eplanning-ui/project/36665/510 [please use Chrome]) and at https://www.blm.gov/programs/planning-and-nepa/plans-in-development/alaska/BSWI. On the project summary page, click on “Documents” on the left side of the screen to find the electronic version of this material. Hard copies of the Proposed RMP/Final EIS are also available for public inspection. Please contact each of the following facilities prior to visiting to determine the specific COVID-19 protocols in place, such as needing an appointment and face mask to enter:

BLM Anchorage Field Office, 4700 BLM Road, Anchorage, AK 99507, (907) 261-1246.

BLM Fairbanks District Office, 222 University Avenue, Fairbanks, AK 99709, (907) 474-2200.

BLM Alaska Public Information Center, James M. Fitzgerald Federal Building, 222 West 7th Avenue, Anchorage, AK 99513 (907) 271-5960.

Alaska Resources Library & Information Services, 3211 Providence Drive, Suite 111, Anchorage, AK 99508, (907) 272-7547.

All protests must be in writing and filed with the BLM Director, either as a hard copy or electronically via BLM's National NEPA Register by the close of the protest period. The only electronic protests the BLM will accept are those filed through BLM's National NEPA Register. All protest letters sent to the BLM via fax or email will be considered invalid unless a properly filed protest is also submitted.

Instructions for filing a protest may be found in the “Dear Reader” Letter of the Bering Sea-Western Interior Proposed RMP/Final EIS, at 43 CFR 1610.5-2, and online at https://www.blm.gov/programs/ planning-and-nepa/public- participation/filing-a-plan-protest. If you do not have the ability to file your protest electronically, hard copy protests must be mailed to one of the following addresses:

• Regular Mail: BLM Director (210), Attention: Protest Coordinator, P.O. Box 261117, Lakewood, CO 80226

• Overnight Delivery: BLM Director (210), Attention: Protest Coordinator, 2850 Youngfield Street, Lakewood, CO 80215.

Before including your phone number, email address, or other personal identifying information in your protest, you should be aware that your entire protest—including your personal identifying information—may be made publicly available at any time. While you can ask us in your protest to withhold your personal identifying information from public review, we cannot guarantee that we will be able to do so.

FOR FURTHER INFORMATION CONTACT: Jorjena Barringer, BLM Anchorage Field Office, telephone: (907) 267-1317, email: jbarringer@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Bering Sea-Western Interior Planning Area is in western Alaska and encompasses approximately 62.3 million acres of land, including 13.5 million acres managed by the BLM.

This RMP replaces the 1981 Southwest Management Framework and a small portion of the 1986 Central Yukon Resource Management Plan, including amendments. It provides:

• Consolidated direction to address land and resource use and development on BLM-managed lands within the planning area under one RMP, and

• Analysis of the environmental effects that could result from the implementation of the alternatives proposed in the RMP/EIS.

The purpose of this Proposed RMP is to make decisions that guide future land management actions and site-specific implementation decisions. The decisions will address goals and objectives for resource management (desired outcomes) and establish land uses (allocations) that are allowable, restricted, or prohibited to achieve the goals and objectives. The need for this RMP is to provide guidance that will address the significant alterations in resources, circumstances, laws, policies, and regulations in the planning area since 1981.

The Proposed RMP/Final EIS evaluates five alternatives for managing the planning area. Alternative A, the no action alternative, represents existing management described by current land use plans and provides the benchmark against which to compare the other alternatives. Alternative B emphasizes reducing the potential for competition between recreational or developmental uses and subsistence resources by identifying key areas for additional management actions. Alternative C emphasizes adaptive management at the planning level to maintain the long-term sustainability of resources while providing for multiple resource uses. Alternative D provides additional flexibility at the site-specific implementation level and fewer management restrictions at the planning level. The Proposed RMP (Alternative E) emphasizes adaptive management at the planning level to protect the long-term sustainability of resources while providing for multiple resource uses. This alternative is meant to provide flexibility at the planning level while still providing enough direction to make processing of site-specific projects easier and more consistent. Alternatives B, C, D, and E were developed using input from the public, stakeholders, and cooperating agencies. Major planning issues addressed include subsistence resources, including water resources, fisheries, and wildlife; forestry; minerals and mining; recreation; travel management and access; and areas of critical environmental concern.

The BLM initiated the scoping process for the Bering Sea-Western Interior RMP with the publication of a Notice of Intent in the Federal Register on July 18, 2013 and concluded that scoping process 180 days later on January 17, 2014. The BLM requested agencies, tribes, groups, and the public to identify issues and concerns within the planning area. Scoping comments collected at public meetings and by emails, letters, and phone calls were used to identify issues and define the scope of analysis for management alternatives. Meetings were held in 10 communities with proximity to substantial blocks of BLM lands, the Iditarod National Historic Trail, the Unalakleet Wild River Corridor, and major watersheds in the planning area (Kuskokwim and Yukon Rivers). Local and regional news releases advertised the times and locations of these meetings. Additional detail on the public outreach efforts related to the scoping process is included in the Scoping Report (BLM 2014a).

During February and March of 2015, the BLM held public meetings in 14 communities that focused on explaining the preliminary alternatives for the future Draft RMP/EIS. The BLM released the Preliminary Alternatives Comment Summary Report in August 2015, which summarized input received on preliminary alternatives for the Draft RMP/EIS. The BLM used the comments, along with subsequently identified issues and planning criteria, to help formulate a reasonable range of alternatives for analysis in the Draft RMP/EIS.

The BLM provided additional public outreach when there were substantial project updates through its Bering Sea-Western Interior ePlanning website; mailing of postcards and flyers; seven newsletter publications; emailed eNews Blasts; and through press releases, newspaper advertisements, and radio public service announcements.

The 90-day public comment period on the Draft RMP/EIS ran from March 15, 2019, to June 13, 2019, with 17 public meetings held during that time to gather comments on the Draft RMP/EIS. The BLM engaged in a collaborative outreach and public involvement process during the public comment period that included federally recognized tribes, Alaska Native corporations, city, state, and federal agencies, non-governmental organizations, and the general public. The BLM collected comments on alternatives, objectives, and actions described in the Draft RMP/EIS. This Proposed RMP/Final EIS reflects changes and adjustments based on information received during public comment on the Draft RMP/EIS and new information. The Bering Sea-Western Interior Comment Summary Report (BLM 2019) provides additional detail on the public comment period, comments received, and how those comments were addressed in this Proposed RMP/Final EIS. A summary of comments received during the public comment period and responses to those comments is also included in Appendix G.

Authority: 16 U.S.C. 3120(a); 40 CFR 1506.6(b).

Chad B. Padgett,
State Director, Alaska.

[FR Doc. 2020-26646 Filed 12-3-20; 8:45 am]

BILLING CODE 4310-JA-P